DEPARTMENT OF HOMELAND SECURITY

Federal Emergency Management Agency

[Docket ID: FEMA-2016-0033; OMB No. 1660-NW102]

Agency Information Collection Activities: Submission for OMB Review; Comment Request; Federal Emergency Management Agency Individual Assistance Customer Satisfaction Surveys

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before May 12, 2017.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov. Or, Jessica Guillory, Statistician, Customer Survey & Analysis Section, Recovery Directorate, FEMA at 940-891-8528.

SUPPLEMENTARY INFORMATION: This proposed information collection previously published in the Federal Register on January 31, 2017 at 82 FR 8836 with a 60-day public comment period. FEMA received one comment. The commenter requested a copy of the collection which was provided. The purpose of this notice is to notify the public that FEMA will submit the information collection abstracted below to the Office of Management and Budget for review and clearance.

Collection of Information

Title: Federal Emergency Management Agency Individual Assistance Customer Satisfaction Surveys.

Type of information collection: New information collection.

OMB Number: 1660-NW102.

Form Titles and Numbers: FEMA Form 519-0-37, Initial Survey—Electronic; FEMA Form 519-0-36, Initial Survey—Phone; FEMA Form 519-0-39, Contact Survey—Electronic; FEMA Form 519-0-38, Contact Survey—Phone; FEMA Form 519-0-41, Assessment Survey—Electronic; FEMA Form 519-0-40, Assessment Survey—Phone.

Abstract: Federal agencies are required to survey their customers to determine the kind and quality of services customers want and their level of satisfaction with those services. Analysis from the survey is used to measure FEMA's survivor-centric mission of being accessible, simple, timely, and effective in meeting the needs of survivors.

Affected Public: Individuals and Households.

Estimated Number of Respondents: 24,096.

Estimated Total Annual Burden Hours: 8,095.

Estimated Cost: The estimated annual non-labor cost to respondents for expenditures on training, travel, and other resources is $31,104.00. There are no annual start-up or capital costs. The cost to the Federal Government is $1,766,288.36.

Dated: April 5, 2017.
Tammi Hines,
Acting Records Management Branch Chief, Mission Support, Federal Emergency Management Agency, Department of Homeland Security.

[FR Doc. 2017-07246 Filed 4-11-17; 8:45 am]

BILLING CODE 9111-23-P